DEPARTMENT OF DEFENSE

Department of the Air Force

[Docket ID: USAF-2008-0033]

Privacy Act of 1974; System of Records

AGENCY: Department of the Air Force, DoD.

ACTION: Notice to delete a system of records.

SUMMARY: The Department of the Air Force is deleting a system of records in its existing inventory of record systems subject to the Privacy Act of 1974, (5 U.S.C. 552a), as amended.

DATES: This proposed action will be effective without further notice on December 12, 2008, unless comments are received which result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The Department of Air Force proposes to delete a system of records notice from its inventory of record systems subject to the Privacy Act of 1974 (5 U.S.C. 552a), as amended. The proposed deletion is not within the purview of subsection (r) of the Privacy Act of 1974 (5 U.S.C. 552a), as amended, which requires the submission of new or altered systems reports.

Dated: November 3, 2008.
Morgan E. Frazier,
Alternate OSD Federal Register Liaison Officer, Department of Defense.

F024 AF DP A

System name:

Application for Early Return of Dependents (June 11, 1997, 62 FR 31793).

Reason:

The records collected in this system notice have been incorporated into System of Record Notice (SORN) F036 AF PC C, Family Services Volunteer and Request for Early Return Records (June 11, 1997, 62 FR 31793). Because these records are accurately referenced in another system notice, system notice F024 AF DP A is duplicative and should be deleted.

[FR Doc. E8-26748 Filed 11-10-08; 8:45 am]

BILLING CODE 5001-06-P